DEPARTMENT OF COMMERCE

National Oceanic and Atmospheric Administration

50 CFR Part 660

[Docket No. 221206-0261]

RIN 0648-BN32

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow fishing vessels to access more abundant groundfish stocks while protecting rebuilding stocks.

DATES: This final rule is effective October 22, 2024.

ADDRESSES: Electronic Access: This rule is accessible via the internet at the Office of the Federal Register website at https://www.federalregister.gov. Background information and documents are available at the Pacific Fishery Management Council's website at https://www.pcouncil.org/.

FOR FURTHER INFORMATION CONTACT: Dr. Sean Matson, phone: 206-526-6187 or email: sean.matson@noaa.gov.

SUPPLEMENTARY INFORMATION:

Background

The Pacific Coast Groundfish Fishery Management Plan (PCGFMP) and its implementing regulations at title 50 in the Code of Federal Regulations (CFR), part 660, subparts C through G, regulate fishing for over 90 species of groundfish seaward of Washington, Oregon, and California. The Pacific Fishery Management Council (Council) develops groundfish harvest specifications and management measures for 2-year periods (biennia). NMFS published the final rule to implement harvest specifications and management measures for the 2023-2024 biennium for most species managed under the PCGFMP on December 16, 2022 (87 FR 77007). The management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its September 2024 meeting, the Council recommended an assortment of modifications that included corrections and adjustments, to commercial fixed gear trip limits and incidental catch limits, for limited entry (LE) and open access (OA) fisheries for the remainder of 2024. Stocks and complexes with recommended changes included the other fish complex south of 40°10′ N lat., minor nearshore rockfish south of 40°10′ N lat., and cabezon in California. Potential changes were analyzed and ultimately recommended after updated information regarding projected catch and attainment became available, as well as requests from industry.

Pacific Coast groundfish fisheries are managed using harvest specifications or limits (e.g., overfishing limits, acceptable biological catch, annual catch limits and harvest guidelines) recommended biennially by the Council and based on the best scientific information available at that time (50 CFR 660.60(b)). During development of the harvest specifications, the Council also recommends management measures (e.g., trip limits, area closures, and bag limits) that are meant to control catch so as not to exceed the harvest specifications. The harvest specifications and management measures developed for the 2023-2024 biennium used data through the 2021 fishing year. Each of the adjustments to management measures discussed below are based on updated fisheries information that was unavailable when the analysis for the current harvest specifications was completed. As new fisheries data becomes available, adjustments to management measures are projected so as to help harvesters achieve but not exceed the harvest limits.

Other Fish Limited Entry Trip Limit South of 40°10′ N Lat. (Correction)

In the September 2024 meeting, the Council recommended that the trip limit for the “other fish” complex be changed from zero pounds (lb) per 2 months, to unlimited for the limited entry fixed gear (LEFG) fishery south of 40°10′ N lat. during November and December of 2024 (table 1), to correct an inadvertent change made in the inseason action from November 2023, which became effective in January 2024.

Table 1—Trip Limit Structure for LE FG “Other Fish” Complex South of 40°10′ N Lat., in Current Regulation and Recommended by Council in September 2024
Option | January-October | November-December
Current regulation | 0 lb (0 kg)/2 months | 0 lb (0 kg)/2 months.
Recommended | 0 lb (0 kg)/2 months | Unlimited.

LEFG and OA Minor Nearshore Rockfish South of 40°10′ N Lat., and Cabezon in California

The Council recommended at their September 2024 meeting, in agreement with analyses by the Council's Groundfish Management Team (GMT) and the California Department of Fish and Wildlife (CDFW), discussion with the Groundfish Advisory Subpanel and enforcement consultants, to change the management lines on LEFG and open access (OA) trip limits in Federal regulation for cabezon in California, as well as shallow and deeper nearshore rockfish (within the minor nearshore rockfish south of 40°10′ N lat. complex) from 36° N lat. to 37°07′ N lat. (tables 2 and 3). This was done to align trip limits with current non-trawl rockfish conservation area boundaries (implemented April 1, 2024), align State and Federal regulations, prevent regulatory and enforcement confusion, and to better serve conservation needs of quillback rockfish (recently designated as overfished), while minimizing corresponding constraints to fishery participants by utilizing more spatially precise management measures. Similar changes were recommended in March 2024 (implemented April 2024) for lingcod, shelf rockfish, and other flatfish, to allow more spatially precise management measures, for both better quillback conservation, and better concurrent access to other target species. CDFW has taken State action to move their latitude line for quillback related closures from 36° to 37°07′ N lat. for the same reasons (State/Federal coordination, and benefits of spatially precise management).

Table 2—Trip Limit Structure for LEFG and OA Minor Nearshore Rockfish South of 40°10′ N Lat., in Current Regulation and Recommended by Council in September 2024
Option | Habitat | Management area | Trip limits
Current regulation | Shallow nearshore | 40°10′ N lat.-36° N lat South of 36° N lat | 0 lb (0 kg)/2 months. 2,000 lb (907 kg)/2 months.
| Deeper nearshore | 40°10′ N lat.-36° N lat South of 36° N lat | 0 lb (0 kg)/2 months. 2,000 lb (907 kg)/2 months, of which no more than 75 lb (34 kg) may be copper rockfish.
Council recommended | Shallow nearshore | 40°10′ N lat.-37°07′ N lat South of 37°07′ N lat | 0 lb (0 kg)/2 months. 2,000 lb (907 kg)/2 months.
| Deeper nearshore | 40°10′ N lat.-37°07′ N lat South of 37°07′ N lat | 0 lb (0 kg)/2 months. 2,000 lb (907 kg)/2 months, of which no more than 75 lb (34 kg) may be copper rockfish.

Table 3—Trip Limit Structure for LE FG and OA Cabezon in California, South of 40°10′ N Lat., in Current Regulation and Recommended by Council in September 2024
Option | Management area | Trip limits
Current regulation | 40°10′ N lat.-36° N lat South of 36° N lat | 0 lb (0 kg)/2 months. Unlimited.
Council recommended | 40°10′ N lat.-37°07′ N lat South of 37°07′ N lat | 0 lb (0 kg)/2 months. Unlimited.

Therefore, the Council recommended and NMFS is implementing, by modifying table 2 South to part 660, subpart E, and table 3 South to part 660, subpart F, changes to the management lines on LEFG and OA trip limits in Federal regulation for cabezon in California, as well as shallow and deeper nearshore rockfish (both part of the minor nearshore rockfish south of 40°10′ N lat. complex) from 36° N lat. to 37°07′ N lat. (tables 2 and 3). These changes will start with Period 5 (November and December) and remain in place through the end of 2024 and beyond, unless otherwise modified.

Retention Limits for Incidental Catch of Pacific Halibut North of Pt. Chehalis

Pacific halibut is internationally managed by the International Pacific Halibut Commission and NMFS. A catch sharing plan is published each year by NMFS; the 2024 plan (89 FR 19275, March 18, 2024) states that the non-treaty incidental catch in sablefish fishery (north of Pt. Chehalis) is 50,000 lb (22.7 metric tons). At the September 2024 meeting, the Council recommended to increase retention limits for the remainder of 2024, for incidental catch of Pacific halibut in the primary sablefish fishery north of Pt. Chehalis. This would represent an increase from the current limit in regulation of 130 lb (59 kg) of halibut per 1,000 lb (454 kg) of dressed sablefish plus two halibut, to 150 lb (68 kg) of halibut per 1,000 lb (454 kg) of dressed sablefish plus two halibut. This action was requested in order to help sablefish fishers north of Pt. Chehalis increase the utilization of their sablefish allocation without exceeding the halibut allocation. The GMT projected an inconsequential increase in already low attainment of the incidental halibut limit, from 52 to 55 percent, if the measure were implemented (table 4).

Table 4—Projected Incidental Pacific Halibut Landings in the Primary Sablefish Fishery North of Point Chehalis Under Current Regulation and Council Recommended Incidental Trip Limits
Option | Landing ratio | Projected landings (net wt. lb) through December 7 | Allocation (net wt. lb) | Attainment (%)
Status Quo | 130 lb (59 kg) halibut per 1,000 lb sablefish landed and up to 2 halibut in excess of limit | 25,871 (11,735 kg) | 50,000 lb (22,680 kg) | 52
Alternative 1 | 150 lb (68 kg) halibut per 1,000 lb sablefish landed and up to 2 halibut in excess of limit | 27,609 (12,523 kg) |  | 55

Therefore, the Council recommended and NMFS is implementing, by modifying regulation text in § 660.60, paragraph (b)(3)(iv) to read as follows: “Incidental Pacific halibut retention north of Pt. Chehalis, WA (46°53.30′ N lat.). From April 1 through the closure date set by the International Pacific Halibut Commission for Pacific halibut in all commercial fisheries, vessels authorized to participate in the sablefish primary fishery, licensed by the International Pacific Halibut Commission for commercial fishing in Area 2A (waters off Washington, Oregon, California), and fishing with longline gear north of Pt. Chehalis, WA (46°53.30′ N lat.) may possess and land up to 150 lb (68 kg) dressed weight of Pacific halibut for every 1,000 lb (454 kg) dressed weight of sablefish landed, and up to two additional Pacific halibut in excess of the 150-lb-per-1,000-lb limit per landing. NMFS publishes the International Pacific Halibut Commission's regulations setting forth annual management measures, including the closure date for Pacific halibut in all commercial fisheries, in the Federal Register by March 15 each year, 50 CFR 300.62. “Dressed” Pacific halibut in this area means halibut landed eviscerated with their heads on. Pacific halibut taken and retained in the sablefish primary fishery north of Pt. Chehalis may only be landed north of Pt. Chehalis and may not be possessed or landed south of Pt. Chehalis.”

Classification

This final rule makes routine inseason adjustments to groundfish fishery management measures, based on the best scientific information available, consistent with the PCGFMP and its implementing regulations.

This action is taken under the authority of 50 CFR 660.60(c) and is exempt from review under Executive Order 12866.

The aggregate data upon which these actions are based, are available for public inspection by contacting Dr. Sean Matson in NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. The adjustments to management measures in this document update management line designations on trip limits for cabezon in California, and minor nearshore rockfish south of 40°10′ N lat., and allow additional incidental retention of bycaught Pacific halibut north of Pt. Chehalis to allow additional economic opportunity while keeping catch within allocations established by the 2023-2024 harvest specifications, and the 2024 halibut catch sharing plan, respectively.

The latitude line changes on trip limits in the LE and OA sectors are necessary to enable and spatially precise management for adequate conservation, and to minimize catch of quillback rockfish, which was recently determined to be overfished (NMFS notified the Council of the overfished status determination for quillback rockfish on December 14, 2023), while allowing fishing for other species to continue in areas where it may otherwise need to be closed if the changes were not made. The changes also are necessary to enable effective enforcement by aligning spatial management for these species across State and Federal waters boundaries. Increases to retention of incidentally caught halibut are necessary to enable more effective attainment of the sablefish allocation without exceeding the halibut allocation.

Delaying implementation to allow for public comment would likely reduce the economic benefits to the commercial fishing industry and the businesses that rely on that industry, because it is unlikely the new regulations would publish and could be implemented in time to realize the projected benefits to fishing communities and the resource. A delay in implementation could also contribute to unnecessarily discarded and largely wasted fish, which could otherwise be landed to provide food and revenue, and responsible use of the resource. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect fisheries by increasing opportunity and allowing greater economic benefit. These adjustments were requested by the Council's advisory bodies, as well as members of industry during the Council's September 2024 meeting, and recommended unanimously by the Council. No aspect of this action is controversial, and changes of this nature were anticipated in the biennial harvest specifications and management measures established through a notice and comment rulemaking for 2023-2024 (87 FR 77007).

List of Subjects in 50 CFR Part 660

Fisheries, Fishing, Indian fisheries.

Dated: October 16, 2024.
Karen H. Abrams,
Acting Director, Office of Sustainable Fisheries, National Marine Fisheries Service.

For the reasons set out in the preamble, NMFS amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.231, revise paragraph (b)(3)(iv) to read as follows:

* * * * *

(b) * * *

(3) * * *

(iv) Incidental Pacific halibut retention north of Pt. Chehalis, WA (46°53.30′ N lat.). From April 1 through the closure date set by the International Pacific Halibut Commission for Pacific halibut in all commercial fisheries, vessels authorized to participate in the sablefish primary fishery, licensed by the International Pacific Halibut Commission for commercial fishing in Area 2A (waters off Washington, Oregon, California), and fishing with longline gear north of Pt. Chehalis, WA (46°53.30′ N lat.) may possess and land up to 150 lb (68 kg) dressed weight of Pacific halibut for every 1,000 lb (454 kg) dressed weight of sablefish landed, and up to two additional Pacific halibut in excess of the 150-lb-per-1,000-lb limit per landing. NMFS publishes the International Pacific Halibut Commission's regulations setting forth annual management measures, including the closure date for Pacific halibut in all commercial fisheries, in the Federal Register by March 15 each year, 50 CFR 300.62. “Dressed” Pacific halibut in this area means halibut landed eviscerated with their heads on. Pacific halibut taken and retained in the sablefish primary fishery north of Pt. Chehalis may only be landed north of Pt. Chehalis and may not be possessed or landed south of Pt. Chehalis.

* * * * *

3. Revise table 2 (South) to part 660, subpart E, to read as follows:

BILLING CODE 3510-22-P

4. Revise table 3 (South) to part 660, subpart F, to read as follows:

[FR Doc. 2024-24400 Filed 10-21-24; 8:45 am]

BILLING CODE 3510-22-C